DEPARTMENT OF COMMERCE

Foreign-Trade Zones Board

[Order No. 1128]

Expansion of Foreign-Trade Zone 79, Tampa, Florida

Pursuant to its authority under the Foreign-Trade Zones Act of June 18, 1934, as amended (19 U.S.C. 81a-81u), the Foreign-Trade Zones Board (the Board) adopts the following Order:

Whereas, the City of Tampa, Florida, grantee of Foreign-Trade Zone 79 (Tampa, Florida), submitted an application to the Board for authority to expand FTZ 79 to include the jet fuel storage and distribution system at the Tampa International Airport (Site 7—100 acres) in Tampa, Florida, within the Tampa Customs port of entry (FTZ Docket 12-2000; filed March 28, 2000);

Whereas, notice inviting public comment was given in the Federal Register (65 FR 18282, April 7, 2000) and the application has been processed pursuant to the FTZ Act and the Board's regulations; and

Whereas, the Board adopts the findings and recommendations of the examiner's report, and finds that the requirements of the FTZ Act and Board's regulations are satisfied, and that the proposal is in the public interest;

Now, Therefore, the Board hereby orders:

The application to expand FTZ 79 is approved, subject to the Act and the Board's regulations, including § 400.28.

Signed at Washington, DC, this 21st day of November 2000.
Troy H. Cribb,
Assistant Secretary of Commerce for Import Administration, Alternate Chairman, Foreign-Trade Zones Board.

[FR Doc. 00-31109 Filed 12-5-00; 8:45 am]

BILLING CODE 3510-DS-P